DEPARTMENT OF AGRICULTURE

Food Safety and Inspection Service

[Docket No. FSIS-2008-0041]

Codex Alimentarius Commission: Meeting of the Codex Committee on Fats and Oils

AGENCY: Office of the Under Secretary for Food Safety, USDA.

ACTION: Notice of public meeting and request for comments.

SUMMARY: The Office of the Under Secretary for Food Safety, U.S. Department of Agriculture (USDA), and the Food and Drug Administration (FDA), U.S. Department of Health and Human Services (HHS), are sponsoring a public meeting on January 26, 2009. The objective of the public meeting is to provide information and receive public comments on agenda items and draft United States positions that will be discussed at the 21st Session of the Codex Committee on Fats and Oils (CCFO) of the Codex Alimentarius Commission (Codex), which will be held in Kota Kinabalu, Malaysia, from February 16-20, 2009. The Under Secretary for Food Safety and FDA recognize the importance of providing interested parties the opportunity to obtain background information on the 21st Session of the CCFO and to address items on the agenda.

DATES: The public meeting is scheduled for Wednesday, January 26, 2009, 1-4 p.m.

ADDRESSES: The public meeting will be held in the rear of the cafeteria, South Agriculture Building, USDA, 1400 Independence Avenue, SW., Washington, DC 20250. Documents related to the 21st Session of the CCFO will be accessible via the World Wide Web at the following address: http://www.codexalimentarius.net/current.asp.

The U.S. Delegate to the 21st Session of the CCFO, Dr. Dennis Keefe of FDA, invites U.S. interested parties to submit their comments electronically to the following e-mail address (Dennis.Keefe@fda.hhs.gov).

Registration

There is no need to pre-register for this meeting. To gain admittance to this meeting, individuals must present a photo ID for identification. When arriving for the meeting, please enter the South Agriculture Building through the second wing entrance on C Street, SW.

For Further Information About the 21st Session of the CCFO Contact: Dr. Dennis Keefe, U.S. Delegate to the CCFO, FDA, Center for Food Safety and Applied Nutrition, Harvey W. Wiley Federal Building, 5100 Paint Branch Parkway, College Park, MD 20740-3835, Phone: (301) 436-1284, Fax: (301) 436-2972, e-mail: Dennis.Keefe@fda.hhs.gov.

For Further Information About the Public Meeting Contact: Amjad Ali, International Issues Analyst, U.S. Codex Office, Food Safety and Inspection Service, Room 4861, South Agriculture Building, 1400 Independence Avenue, SW., Washington, DC 20250, Phone: (202) 205-7760, Fax: (202) 720-3157.

SUPPLEMENTARY INFORMATION:

Background

The Codex Alimentarius (Codex) was established in 1963 by two United Nations organizations, the Food and Agriculture Organization and the World Health Organization. Through adoption of food standards, codes of practice, and other guidelines developed by its committees, and by promoting their adoption and implementation by governments, Codex seeks to protect the health of consumers and ensure fair practices are used in trade.

The CCFO was established to elaborate codes, standards and related texts for fats and oils. The Committee is being hosted by Malaysia.

Issues To Be Discussed at the Public Meeting

The following items on the agenda for the 21st Session of the CCFO will be discussed during the public meeting:

• Matters referred to the Committee from the other Codex bodies.

• Draft Amendment to the Standard for Named Vegetable Oils: Inclusion of Rice Bran Oil.

• Draft Amendment to the Standard for Named Vegetable Oils: Amendment to Total Carotenoids in Unbleached Palm Oil.

• Proposed Draft Criteria for Acceptable Previous Cargoes to the Code of Practice for Storage and Transport of Edible Fats and Oils in Bulk.

• Draft List of Acceptable Previous Cargoes at Step 6.

• Proposed Draft List of Acceptable Previous Cargoes at Step 3.

• Consideration of the Linolenic Acid and Campesterol Levels in Section 3.9 of the Standard for Olive Oils and Olive Pomace Oils.

• Consideration of Proposals for Amendments to the Standard for Named Vegetable Oils: Palm Kernel Stearin and Palm Kernel Olein.

• Criteria for the Revision of the Standard for Named Vegetable Oils.

Each issue listed will be fully described in documents distributed, or to be distributed, by the Secretariat prior to the meeting. Members of the public may access copies of these documents (see ADDRESSES).

Public Meeting

At the January 26, 2009, public meeting, draft U.S. positions on the agenda items will be described and discussed, and attendees will have the opportunity to pose questions and offer comments. Written comments may be offered at the meeting or sent to the U.S. Delegate for the 21st Session of the CCFO, Dr. Dennis Keefe (see ADDRESSES). Written comments should state that they relate to activities of the 21st Session of the CCFO.

Additional Public Notification

Public awareness of all segments of rulemaking and policy development is important. Consequently, in an effort to ensure that minorities, women, and persons with disabilities are aware of this notice, FSIS will announce it online through the FSIS Web page located at http://www.fsis.usda.gov/regulations/2008_Notices_Index/.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. Through the Listserv and Web page, FSIS is able to provide information to a much broader and more diverse audience. In addition, FSIS offers an e-mail subscription service which provides automatic and customized access to selected food safety news and information. This service is available at http://www.fsis.usda.gov/news_and_events/email_subscription/. Options range from recalls to export information to regulations, directives and notices. Customers can add or delete subscriptions themselves, and have the option to password protect their accounts.

Done at Washington, DC on December 12, 2008.
Paulo Almeida,
Associate U.S. Manager for Codex Alimentarius.

[FR Doc. E8-30004 Filed 12-17-08; 8:45 am]

BILLING CODE 3410-DM-P